DEPARTMENT OF COMMERCE

National Oceanic and Atmospheric Administration

RIN 0648-XR61

Marine Mammals; File No. 14535

AGENCY: National Marine Fisheries Service (NMFS), National Oceanic and Atmospheric Administration (NOAA), Commerce.

ACTION: Notice; issuance of permit.

SUMMARY: Notice is hereby given that Colleen Reichmuth, Ph.D., University of California at Santa Cruz, Long Marine Laboratory, 100 Shaffer Road, Santa Cruz, CA has been issued a permit to conduct research on captive pinnipeds for scientific research.

ADDRESSES: The permit and related documents are available for review upon written request or by appointment in the following office(s):

Permits, Conservation and Education Division, Office of Protected Resources, NMFS, 1315 East-West Highway, Room 13705, Silver Spring, MD 20910; phone (301) 713-2289; fax (301) 713-0376; and Southwest Region, NMFS, 501 West Ocean Blvd., Suite 4200, Long Beach, CA 90802-4213; phone (562) 980-4001; fax (562) 980-4018.

FOR FURTHER INFORMATION CONTACT: Amy Sloan or Kate Swails, (301) 713-2289.

SUPPLEMENTARY INFORMATION: On September 15, 2009, notice was published in the Federal Register (74 FR 47207) that a request for a permit to conduct research on captive pinnipeds for scientific research had been submitted by the above-named applicant. The requested permit has been issued under the authority of the Marine Mammal Protection Act of 1972, as amended (16 U.S.C. 1361 et seq.), and the regulations governing the taking and importing of marine mammals (50 CFR part 216).

Permit No. 14535 authorizes psychological and physiological research annually on up to 2 captive harbor seals (Phoca vitulina), 2 California sea lions (Zalophus californianus), and 2 northern elephant seals (Mirounga angustirostris) at Long Marine Laboratory, which are trained to voluntarily participate in studies designed to evaluate their perceptual and cognitive capabilities. The permit expires on December 31, 2014.

In compliance with the National Environmental Policy Act of 1969 (42 U.S.C. 4321 et seq.), a final determination has been made that the activity proposed is categorically excluded from the requirement to prepare an environmental assessment or environmental impact statement.

Dated: December 7, 2009.
P. Michael Payne,
Chief, Permits, Conservation and Education Division, Office of Protected Resources, National Marine Fisheries Service.

[FR Doc. E9-29585 Filed 12-10-09; 8:45 am]

BILLING CODE 3510-22-S